DEPARTMENT OF THE TREASURY

Internal Revenue Service

26 CFR 1

[TD 9504]

RIN 1545-BI66

Basis Reporting by Securities Brokers and Basis Determination for Stock

Correction

In rule document 2010-25504 beginning on page 64072 in the issue of Monday, October 18, 2010, make the following corrections:

§ 1.6054-1 [Corrected]

1. On page 64093, in the third column, in § 1.6045-1(d)(6)(i), in the first line “(i)” should read “(i)”.

2. On the same page, in the same column, in § 1.604-1(d)(6)(ii)(A), in the first line “(A)” should read “(A)”.

3. On page 64094, in the first column, in § 1.604-1(d)(6)(ii)(B)(2), in the first line “(2)”; should read “(2)”.

4. On the same page, in the same column, in § 1.604-1(d)(6)(iii)(A), in the first line “(A)” should read “(A)”.

[FR Doc. C1-2010-25504 Filed 12-6-10; 8:45 am]

BILLING CODE 1505-01-D